FEDERAL COMMUNICATIONS COMMISSION

47 CFR Part 90

[WT Docket No. 96-86; FCC 05-9]

Development of Operational, Technical and Spectrum Requirements for Meeting Federal, State and Local Public Safety Communication Requirements Through the Year 2010

AGENCY: Federal Communications Commission.

ACTION: Proposed rule.

SUMMARY: In this document the Commission seeks comment on various proposals governing both technical and operational rules in the 764-776 MHz and 794-806 MHz public safety bands (700 MHz Public Safety Band).

DATES: Written comments are due on or before May 27, 2005, and reply comments are due on or before June 13, 2005.

ADDRESSES: Federal Communications Commission, 445 12th Street, SW., Washington, DC 20554. Comments may be filed using the Commission's Electronic Comment Filing System (ECFS) or by filing paper copies. See SUPPLEMENTARY INFORMATION for further filing instructions.

FOR FURTHER INFORMATION CONTACT: Technical Information: Brian Marenco, Brian.Marenco@FCC.gov, Public Safety and Critical Infrastructure Division, Wireless Telecommunications Bureau, (202) 418-0680, or TTY (202) 418-7233. Legal Information: Roberto Mussenden, Esq., Roberto.Mussenden@FCC.gov, Public Safety and Critical Infrastructure Division, Wireless Telecommunications Bureau (202) 418-0680, or TTY (202) 418-7233.

SUPPLEMENTARY INFORMATION: This is a summary of the Federal Communications Commission's Seventh Notice of Proposed Rulemaking, FCC 05-9, adopted January 5, 2005 and released on January 7, 2005. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: http://www.fcc.gov. Alternative formats are available to persons with disabilities by contacting Brian Millin at (202) 418-7426 or TTY (202) 418-7365 or at Brian.Millin@fcc.gov.

1. In the Seventh Notice of Proposed Rulemaking, the Commission seeks comment on:

(a) A proposal made by the Private Radio Section of the Wireless Communications Division of the Telecommunications Industry Association (TIA-PRS) to:

• Adopt tables describing ACP limits for 50 kHz and 100 kHz wideband operations;

• Relax the ACP requirement in the paired receive band for wideband and narrowband base station transmitters; and

• Extend the ACP limits to the 700 MHz Guard Band channels.

(b) A proposal by Access Spectrum, LLC (Access Spectrum) that the Commission clarify that the 700 MHz Guard Band ACP limits apply only at the boundaries of the 700 MHz Guard Band's licensee's authorized allocation.

(c) A proposal by Access Spectrum that the Commission establish scalable ACP limits which would apply to operations at any bandwidth;

(d) A joint proposal from Nortel/EADS Telecom North America that the Commission adjust the ACP limits for 12.5 kHz bandwidth operations in order to permit use of more spectrally efficient technologies;

(e) Proposals made by the Public Safety National Coordination Committee (NCC) asking that the Commission:

• Adopt a 700 MHz wideband data standard;

• Require wideband mobile and portable radios be capable of operating on all the wideband interoperability channels using the wideband data standard;

• Update the interoperability standards set forth at Section 90.548 of the Commission's rules to reflect updated industry standards;

• Update the encryption standards set forth at Section 90.553(e) of the Commission's rules to reflect updated industry standards; and

• Adopt minimum signal strength design criteria for public safety systems operating in the 700 MHz Public Safety Band.

(f) A tentative conclusion not to adopt the following NCC proposals:

• Requiring the use of standard channel nomenclature for interoperability channels;

• Requiring mobile and portable units certificated for use under part 90 of the rules be capable of displaying standardized interoperability channel labels alphanumerically if the radios are equipped with alphanumeric displays;

• Revising the term “State Interoperability Executive Committee” to “Statewide Interoperability Executive Committee”;

• Mandating the use of State Interoperability Executive Committees; and extend their jurisdiction to interoperability channels in all public safety bands; and

• Making certain procedural changes to the Commission's review of 700 MHz regional plans;

(g) Clarifications to the trunking requirement of Section 90.537 of the Commission's rules.

I. Procedural Matters

A. Ex Parte Rules—Permit-But-Disclose Proceeding

2. This is a permit-but-disclose notice and comment rulemaking proceeding. Ex parte presentations are permitted, except during the Sunshine Agenda period, provided they are disclosed as provided in the Commission's rules.

B. Filing Procedures

3. Pursuant to sections 1.415 and 1.419 of the Commission's rules, interested parties may file comments on the Seventh Notice of Proposed Rulemaking on or before May 27, 2005, and reply comments on or before June 13, 2005. Comments and reply comments may be filed using the Commission's Electronic Comment Filing System (ECFS) or by filing paper copies. All relevant and timely comments will be considered by the Commission before final action is taken in this proceeding.

4. Comments filed through the ECFS can be sent as an electronic file via the Internet to http://www.fcc.gov/e-file/ecfs.html. In completing the transmittal screen, commenters should include their full name, postal service mailing address, and the applicable docket number. Parties may also submit an electronic comment by e-mail via the Internet. To obtain filing instructions for e-mail comments, commenters should send an e-mail to ecfs@fcc.gov, and should include the following words in the body of the message: “get form <your e-mail address>.” A sample form and directions will be sent in reply.

5. Parties who choose to file by paper must file an original and four copies of each filing. If parties want each Commissioner to receive a personal copy of their comments, they must file an original plus nine copies. All filings must be sent to the Commission's Secretary, Marlene H. Dortch, Office of the Secretary, Federal Communications Commission, 445 12th Street, SW., Room TW-A325, Washington, DC 20554. One copy of each filing (together with a diskette copy, as indicated below) should also be sent to the Commission's copy contractor, Best Copy and Printing, Inc. (BCPI), Portals II, 445 12th Street, SW., Room CY-B402, Washington, DC 20554, telephone 1-800-378-3160.

6. Parties who choose to file by paper should also submit their comments on diskette. These diskettes should be attached to the original paper filing submitted to the Office of the Secretary. Such a submission should be on a 3.5 inch diskette formatted in an IBM compatible format using Microsoft™ Word 2002 or compatible software. The diskette should be accompanied by a cover letter and should be submitted in “read only” mode. The diskette should be clearly labeled with the commenter's name, proceeding, type of pleading (comment or reply comment), date of submission, and the name of the electronic file on the diskette. The label should also include the following phrase “Disk Copy—Not an Original.” Each diskette should contain only one party's pleadings, preferably in a single electronic file. In addition, commenters should send diskette copies to the Commission's copy contractor. In addition, commenters should send diskette copies to the Commission's copy contractor, Best Copy and Printing, Inc. (BCPI), Portals II, 445 12th Street, SW., Room CY-B402, Washington, DC 20554, telephone 1-800-378-3160.

7. The public may view the documents filed in this proceeding during regular business hours in the FCC Reference Information Center, Federal Communications Commission, 445 12th Street, SW., Room CY-A257, Washington, D C 20554, and on the Commission's Internet Home Page: http://www.fcc.gov. Copies of comments and reply comments are also available through the Commission's duplicating contractor: Best Copy and Printing, Inc. (BCPI), Portals II, 445 12th Street, SW., Room CY-B402, Washington, DC 20554, telephone 1-800-378-3160, or via e-mail at the following e-mail address: http://www.bcpiweb.com. Accessible formats (computer diskettes, large print, audio recording and Braille) are available to persons with disabilities by contacting Brian Millin, of the Consumer & Governmental Affairs Bureau, at (202) 418-7426, TTY (202) 418-7365, or at bmillin@fcc.gov. For further information, contact Mr. Brian Marenco at (202) 418-0838, brian.marenco@fcc.gov, Public Safety and Critical Infrastructure Division, Wireless Telecommunications Bureau.

C. Initial Regulatory Flexibility Analysis

8. As required by the Regulatory Flexibility Act (RFA), the Commission has prepared an Initial Regulatory Flexibility Analysis (IRFA) of the possible significant economic impact on small entities of the policies and rules proposed in this Seventh Notice of Proposed Rulemaking. Written public comments are requested regarding this IRFA. Comments must be identified as responses to the IRFA and must be filed by the deadlines for comments on the Seventh Notice of Proposed Rulemaking provided in paragraph 3. The Commission will send a copy of the Seventh Notice of Proposed Rulemaking, including this IRFA, to the Chief Counsel for Advocacy of the Small Business Administration. In addition, the Seventh Notice and Proposed Rulemaking and IRFA (or summaries thereof) will be published in the Federal Register.

Need for, and Objectives of, the Proposed Rules

9. In the Seventh Notice and Proposed Rulemaking, we seek comment on:

• The TIA-PRS proposal recommending:

—Adopting tables describing ACP limits for 50 kHz and 100 kHz wideband operations;

—Relaxing the ACP requirement in the paired receive band for wideband and narrowband base station transmitters; and

—Extending the above mentioned rules to the 700 MHz Guard Band channels.

• The proposal by Access Spectrum that the Commission clarify that the 700 MHz Guard Band emission requirements masks only at the boundaries of the 700 MHz Guard Band's licensee's authorized allocation.

• The joint proposal from Nortel/EDS that the Commission adopts ACP requirements that correspond to any authorized bandwidth.

• The proposals by National Coordination Committee (NCC) that the Commission:

—Adopt a 700 MHz wideband standard;

—Update the interoperability standards set forth at Section 90.548 of the Commission's rules;

—Update the encryption standards set forth at Section 90.535(e) of the Commission's rules; and

—Adopt minimum signal strength requirements for public safety systems operating in the 700 MHz Public Safety band.

Legal Basis

10. Authority for issuance of this item is contained in Sections 1, 4(i), 7, 301, 302, 303, and 337 of the Communications Act of 1934, as amended, 47 U.S.C. 151, 154(i), 157, 301, 302, 303, 337.

Description and Estimate of the Number of Small Entities To Which the Rules Will Apply

11. The RFA directs agencies to provide a description of and, where feasible, an estimate of the number of small entities that may be affected by the rules adopted. The RFA generally defines the term “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration (SBA). A small organization is generally “any not-for-profit enterprise which is independently owned and operated and is not dominant in its field.” Nationwide, as of 1992, there were approximately 275,801 small organizations. Below, we further describe and estimate the number of small entity licensees and regulatees that may be affected by the proposed rules, if adopted.

12. Governmental Entities. The term “small governmental jurisdiction” is defined as “governments of cities, towns, townships, villages, school districts, or special districts, with a population of less than fifty thousand.” As of 1997, there were approximately 87,453 governmental jurisdictions in the United States. This number includes 39,044 county governments, municipalities, and townships, of which 37,546 (approximately 96.2%) have populations of fewer than 50,000, and of which 1,498 have populations of 50,000 or more. Thus, we estimate the number of small governmental jurisdictions overall to be 84,098 or fewer.

13. Public Safety Radio Licensees. As a general matter, Public Safety Radio Pool licensees include police, fire, local government, forestry conservation, highway maintenance, and emergency medical services. The SBA rules contain a definition for cellular and other wireless telecommunications companies which encompasses business entities engaged in radiotelephone communications employing no more that 1,500 persons. There are a total of approximately 127,540 licensees within these services. With respect to local governments, in particular, since many governmental entities as well as private businesses comprise the licensees for these services, we include under public safety services the number of government entities affected.

14. Wireless Communications Equipment Manufacturers. The SBA has established a small business size standard for radio and television broadcasting and wireless communications equipment manufacturing. Under the standard, firms are considered small if they have 750 or fewer employees. Census Bureau data for 1997 indicates that, for that year, there were a total of 1,215 establishments in this category. Of those, there were 1,150 that had employment under 500, and an additional 37 that had employment of 500 to 999. The Commission estimates that the majority of wireless communications equipment manufacturers are small businesses.

Description of Projected Reporting, Recordkeeping and Other Compliance Requirements

15. This Seventh Notice of Proposed Rulemaking does not propose a rule that will entail reporting, recordkeeping, and/or third-party consultation. The rule changes proposed in the Seventh Notice of Proposed Rulemaking provide technical adjustments to the Commission's existing requirements for Adjacent Channel Power or update the Commission's existing requirements to reference the latest industry standards.

Steps Taken To Minimize Significant Economic Impact on Small Entities and Significant Alternatives Considered

16. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities. We believe the rule changes contained in this Seventh Notice of Proposed Rulemaking are technologically neutral and do not impact small entities differently than large entities.

Federal Rules That May Duplicate, Overlap, or Conflict With the Proposed Rules

17. None.

II. Ordering Clauses

18. Pursuant to applicable procedures set forth in Sections 1.415 and 1.419 of the Commission's Rules, 47 CFR 1.415, 1.419; interested parties may file comments on the Seventh Notice of Proposed Rulemaking on or before May 27, 2005, and reply comments on or before June 13, 2005.

19. It is further ordered, that the Commission's Consumer and Governmental Affairs Bureau, Reference Information Center, shall send a copy of this Seventh Notice of Proposed Rulemaking including the Initial Regulatory Flexibility Analysis to the Chief Counsel for Advocacy of the Small Business Administration.

List of Subjects in 47 CFR Part 90

Communications.

Federal Communications Commission.
Marlene H. Dortch,
Secretary.

[FR Doc. 05-8203 Filed 4-26-05; 8:45 am]

BILLING CODE 6712-01-P